DEPARTMENT OF COMMERCE

International Trade Administration

Health IT Trade Mission to Brazil September 26-30, 2016

AGENCY: International Trade Administration, Department of Commerce.

ACTION: Notice.

SUMMARY: The United States Department of Commerce, International Trade Administration (ITA) is organizing the 3rd Annual Health IT Trade Mission to Brazil from September 26-30, 2016. This mission is a continuation of two consecutive Health IT missions to Brazil and part of a sustained effort to help U.S. companies access the Brazilian Health IT market. Further, CS Brazil will work with leading Brazilian health media company, Live Media, and the Brazilian Health Informatics Association (SBIS) to organize an e-Health conference, which will be held in Sao Paulo at the same time as the trade mission. U.S. trade mission delegates will participate in the conference as part of the trade mission.

The purpose of the trade mission is to introduce U.S. firms to Brazil's rapidly expanding market for Health IT products, services and solutions and to assist U.S. companies in the pursuit of export opportunities in this sector. The trade mission to Brazil is designed for U.S. Health IT solution providers, particularly small- and medium-sized enterprises (SMEs), interested in long-term business opportunities in Brazil, as well as the trade associations/organizations that represent them. Target sectors holding high potential for U.S exporters include: Electronic Health Records (EHRs), Enterprise Resource Planning (ERP), Health IT interoperability system integration services, patient security, Health IT architecture design services, cyber security solutions, IoT solution providers, cloud solutions, clinical software, big data, clinical decision support, health analytics, health care transformation consulting, telehealth, smart mobile devices and mobile health applications, M2M connected devices, communication solutions, education of Health IT students and workforce training.

Trade mission delegates will participate in a five-day program, including technical visits to hospitals, roundtables and policy meetings with public health officials in Sao Paulo and Recife. In addition, on September 27, as part of the trade mission, delegates will participate in a one-day technology seminar at the e-Health Conference in Sao Paulo, thus giving the delegation heightened exposure to potential clients and partners from countries around the world. (Note that admission to the e-Health Conference September 27-28 is included in the Trade Mission fee). The delegates will also have networking opportunities to meet face-to-face with potential strategic partners, systems integrators, value added resellers (VAR's), hospital decision makers, planners and public health officials at the federal, state and city levels.

This mission supports President Obama's National Export Initiative (NEI). The mission will help new-to-market companies learn about the Brazilian Health IT market and make initial contacts. It will also support U.S. companies already doing business in Brazil to increase their footprint and deepen their business interests. The mission will also help participating firms and associations/organizations gain market insights, make industry contacts, implement business strategies, and advance specific projects, with the goal of increasing U.S. exports of products and services to Brazil.

Schedule

São Paulo, São Paulo, Brazil

Monday, September 26, 2016

• Hospital site and Technology Cluster visits (exclusively for trade mission delegates).

• Roundtable with public and private sector healthcare thought leaders (seminar is open to public).

• Networking reception, Sao Paulo (exclusively for trade mission delegates and invited Brazilian stakeholders).

(All day group bus transportation included).

Tuesday, September 27, 2016

• U.S. Health IT Business Seminar at e-Health Conference—opportunity for Trade Mission Delegates' Technology Presentations (seminar is open to public).

• Relationship Building dinner with hospitals, policy-makers, regulators and industry thought leaders (exclusively for trade mission delegates and invited Brazilian stakeholders).

(All day group bus transportation included).

Wednesday, September 28, 2016

• e-Health Conference—Health IT Business and Technology Seminar (seminar is open to public).

• Business networking opportunities and face-to-face meetings with key Health IT industry stakeholders at e-Health Conference for Health IT trade mission delegates exclusive to trade mission delegates.

(All day group bus transportation included).

• Delegation travels to Recife, Pernambuco.

Recife, Pernambuco, Brazil

Thursday, September 29, 2016

• Health IT Business and Technology Seminar (open to the public).

○ U.S. delegates will participate in panel discussions with the following groups:

• Pernambuco Health Care Hospital Association Members.

• Recife Regional Hospitals.

• State and City Secretariats of Health.

• US Health IT Companies, Brazilian agents, distributors, integrators, VAR's.

○ Lunch and coffee networking breaks.

• Networking reception with key regional healthcare stakeholders (exclusively for trade mission delegates and invited Brazilian stakeholders).

(All day group bus transportation included).

Friday, September 30, 2016

• Hospital site and Technology Cluster visits (exclusively for trade mission delegates).

• Round table with public and private sector healthcare thought leaders (exclusively for trade mission delegates).

(Group bus transportation to official events only, included).

Trade Mission concludes.

Web site: Please visit our official mission Web site for more information: http://export.gov/trademissions/eg_main_023185.asp.

Participation Requirements

All parties interested in participating in the trade mission must complete and submit an application package for consideration by the Department of Commerce (DOC). All applicants will be evaluated, on a rolling basis, on their ability to meet certain conditions and best satisfy the selection criteria as outlined below. A minimum of six firms and/or trade associations or organizations will be selected to participate in the event from the applicant pool.

Fees and Expenses

After a firm or trade association/organization has been selected to participate in the event, a payment to the Department of Commerce in the form of a participation fee is required. The participation fee for the trade mission will be $2,450 for a small or medium-sized enterprise (SME) ¹ and $2,975 for large firms and trade associations/organizations. The fee for each additional representative (SME or large firm or trade associations/organizations) is $1,075 and is subject to availability. Expenses for travel, lodging, meals, and incidentals will be the responsibility of each event delegate. Delegation members will be able to take advantage of U.S. Embassy rates for hotel rooms.

¹ An SME is defined as a firm with 500 or fewer employees or that otherwise qualifies as a small business under SBA regulations (see http://www.sba.gov/services/contractingopportunities/sizestandardstopics/index.html). Parent companies, affiliates, and subsidiaries will be considered when determining business size. The dual pricing reflects the Commercial Service's user fee schedule that became effective November 24, 2015 (see http://itacentral/myorg/gm/odg/osp/User%20Fees%20Resource%20Document%20Library/Marketing%20Flyer%20for%20Communicating%20with%20Clients%20(FY2016).pdf.

The participation fee for this mission includes admission to the e-Health Conference September 27-28, participation in the technology forum in Recife, September 29 and two airport bus transfers (to the São Paulo international airport and from the Recife airport to the designated hotel), as well as group ground transportation by bus to officially scheduled activities on September 26, 27, 28, 29 and 30.

Application

All interested firms and associations may register via the following link: https://emenuapps.ita.doc.gov/ePublic/TM/6R18.

Exclusions

The mission fee does not include any personal travel expenses such as lodging, most meals, local ground transportation (except for transportation to and from meetings, and airport transfers during the mission), and air transportation. Participants will, however, be able to take advantage of U.S. Government rates for hotel rooms. Electronic visas are required to participate on the mission, which are easily obtainable online. Applying for and obtaining such visas will be the responsibility of the mission participant. Government fees and processing expenses to obtain such visas are not included in the participation fee. However, the Department of Commerce will provide instructions to each participant on the procedures required to obtain necessary business visas.

Timeline for Recruitment and Applications

Trade mission recruitment will be conducted in an open and public manner, including, posting on the Commerce Department trade mission calendar and other Internet Web sites, email, press releases to general and trade media, notices by industry trade associations and other multiplier groups, and publicity at industry meetings, symposia, conferences, and trade shows.

Recruitment for the trade mission will begin immediately and conclude no later than September 9, 2016. Applications received after September 9, 2016, will be considered only if space and scheduling constraints permit.

The Department of Commerce will review applications and make selection decisions on a rolling basis beginning until the maximum of 20 delegates is selected.

Conditions for Participation

An applicant must sign and submit a completed application and supplemental application materials, including adequate information on the company's products and/or services, primary market objectives, and goals for participation. If an incomplete application form is submitted or the information and material submitted does not demonstrate how the applicant satisfies the participation criteria, the Department of Commerce may reject the application, request additional information, or take the lack of information into account when evaluating the application. Each applicant must also:

• Identify whether the products and services it seeks to export through the mission are either produced in the United States, or, if not, marketed under the name of a U.S. firm and have at least 51% U.S. content. In cases where the U.S. content does not exceed 50%, especially where the applicant intends to pursue investment in major project opportunities, the following factors, may be considered in determining whether the applicant's participation in the Trade Mission is in the U.S. national interest:

○ U.S. materials and equipment content;

○ U.S. labor content;

○ Contribution to the U.S. technology base, including conduct of research and development in the United States;

○ Repatriation of profits to the U.S. economy;

○ Potential for follow-on business that would benefit the U.S. economy;

A trade association/organization applicant must certify to the above for all of the companies it seeks to represent on the mission.

An applicant must also certify that:

• The export of its goods, software, technology, and services would be in compliance with U.S. export control laws and regulations, including those administered by the Department of Commerce's Bureau of Industry and Security;

• It has identified any matter pending before any bureau or office of the Department of Commerce;

• It has identified any pending litigation (including any administrative proceedings) to which it is a party that involves the Department of Commerce;

It and its affiliates (1) have not and will not engage in the bribery of foreign officials in connection with its involvement in this Mission, and (2) maintain and enforce a policy that prohibits the bribery of foreign officials.

FOR FURTHER INFORMATION CONTACT:

U.S. Commercial Service Brazil, Everett Wakai, U.S. Commercial Service, Sao Paulo, Brazil, Tel: + 55 +11-3250-5402, Email: everett.wakai@trade.gov.

Jefferson Oliveira, U.S. Commercial Service, Sao Paulo, Brazil, Tel: + 55 +11-3250-5136, Email: jefferson.oliveira@trade.gov.

Patricia Marega, U.S. Commercial Service, Sao Paulo, Brazil, Tel: + 55 +11-3250-5482, Email: patricia.marega@trade.gov.

Frank Spector,
Trade Missions Program.

[FR Doc. 2016-15483 Filed 6-29-16; 8:45 am]

BILLING CODE 3510-DR-P